DEPARTMENT OF DEFENSE

GENERAL SERVICES ADMINISTRATION

NATIONAL AERONAUTICS AND SPACE ADMINISTRATION

[OMB Control No. 9000-0027; Docket No. 2022-0053; Sequence No. 4]

Submission for OMB Review; Value Engineering Requirements

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve an extension of a previously approved information collection requirement concerning value engineering requirements.

DATES: Submit comments on or before May 26, 2022.

ADDRESSES: Written comments and recommendations for this information collection should be sent within 30 days of publication of this notice to www.reginfo.gov/public/do/PRAMain. Find this particular information collection by selecting “Currently under Review—Open for Public Comments” or by using the search function.

Additionally, submit a copy to GSA through https://www.regulations.gov and follow the instructions on the site. This website provides the ability to type short comments directly into the comment field or attach a file for lengthier comments.

Instructions: All items submitted must cite OMB Control No. 9000-0027, Value Engineering Requirements. Comments received generally will be posted without change to https://www.regulations.gov, including any personal and/or business confidential information provided. To confirm receipt of your comment(s), please check www.regulations.gov, approximately two-to-three days after submission to verify posting. If there are difficulties submitting comments, contact the GSA Regulatory Secretariat Division at 202-501-4755 or GSARegSec@gsa.gov.

FOR FURTHER INFORMATION CONTACT: Zenaida Delgado, Procurement Analyst, at telephone 202-969-7207, or zenaida.delgado@gsa.gov.

SUPPLEMENTARY INFORMATION:

A. OMB Control Number, Title, and any Associated Form(s)

9000-0027, Value Engineering Requirements.

B. Need and Uses

This justification supports an extension of OMB Control No. 9000-0027. This clearance covers the information that contractors must submit to comply with the following Federal Acquisition Regulation (FAR) requirements:

• FAR 52.248-1, Value Engineering; 52.248-2, Value Engineering-Architect-Engineer; and 52.248-3, Value Engineering-Construction.

These clauses require contractors submitting Value Engineering Change Proposals (VECP's) to the Government to provide such details as: (1) A description of the differences between the existing contract requirement and the proposed requirement, and the comparative advantages and disadvantages of each; (2) a list and analysis of contract requirements that must be changed if the VECP is accepted; (3) a detailed cost estimate showing anticipated reductions associated with the VECP; (4) a statement of the time a modification accepting the VECP must be issued to achieve maximum cost reduction, and the effect on contract completion time; and (5) identification of any previous submissions of the VECP; the agencies and contract numbers involved and previous Government actions, if known.

The Government will use the collected information to evaluate the VECP and, if accepted, to arrange for an equitable sharing plan.

C. Annual Burden

Respondents: 109.

Total Annual Responses: 218.

Total Burden Hours: 3,270.

D. Public Comment

A 60-day notice was published in the Federal Register at 87 FR 9359, on February 18, 2022. No comments were received.

Obtaining Copies: Requesters may obtain a copy of the information collection documents from the GSA Regulatory Secretariat Division by calling 202-501-4755 or emailing GSARegSec@gsa.gov. Please cite OMB Control No. 9000-0027, Value Engineering Requirements.

Janet Fry,
Director, Federal Acquisition Policy Division, Office of Governmentwide Acquisition Policy, Office of Acquisition Policy, Office of Governmentwide Policy.

[FR Doc. 2022-08848 Filed 4-25-22; 8:45 am]

BILLING CODE 6820-EP-P